DEPARTMENT OF THE INTERIOR

National Park Service

[N6539; NPS-WASO-NAGPRA-NPS0041126; PPWOCRADN0-PCU00RP14.R50000]

Notice of Intended Repatriation: Michigan State University, East Lansing, MI

AGENCY: National Park Service, Interior.

ACTION: Notice.

SUMMARY: In accordance with the Native American Graves Protection and Repatriation Act (NAGPRA), Michigan State University intends to repatriate certain cultural items that meet the definition of unassociated funerary objects and that have a cultural affiliation with the Indian Tribes or Native Hawaiian organizations in this notice.

DATES: Repatriation of the cultural items in this notice may occur on or after October 27, 2025.

ADDRESSES: Send additional, written requests for repatriation of the cultural items in this notice to Judith Stoddart, Michigan State University, 287 Delta Court, East Lansing, MI 48824, email stoddart@msu.edu.

SUPPLEMENTARY INFORMATION: This notice is published as part of the National Park Service's administrative responsibilities under NAGPRA. The determinations in this notice are the sole responsibility of Michigan State University, and additional information on the determinations in this notice, including the results of consultation, can be found in the summary or related records. The National Park Service is not responsible for the determinations in this notice.

Abstract of Information Available

A total of three cultural items have been requested for repatriation. The three unassociated funerary objects are one silver cross necklace (object 3391), one glazed clay pipe (object 2001.13.38), and one funerary pot (object 2693.11). The cross and pipe were both removed from funerary contexts in Allegan County, Michigan. The pot was removed from somewhere in southern Michigan. Little is known about the donors of the necklace and the pot. The pipe came from the Donald Boudeman collection, an avocational collector whose collection was donated to Michigan State University in 1961 by Donna Boudeman after his passing. No known potentially hazardous substances are known to treat any of the objects.

Determinations

Michigan State University has determined that:

• The three unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Match-e-be-nash-she-wish Band of Pottawatomi Indians of Michigan and the Pokagon Band of Potawatomi Indians, Michigan and Indiana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 27, 2025. If competing requests for repatriation are received, Michigan State University must determine the most appropriate requestor prior to repatriation. Requests for joint repatriation of the cultural items are considered a single request and not competing requests. Michigan State University is responsible for sending a copy of this notice to the Indian Tribes and Native Hawaiian organizations identified in this notice and to any other consulting parties.

(Authority: Native American Graves Protection and Repatriation Act, 25 U.S.C. 3004 and the implementing regulations, 43 CFR 10.9.)

Dated: September 11, 2025.
Melanie O'Brien,
Manager, National NAGPRA Program.

[FR Doc. 2025-18590 Filed 9-24-25; 8:45 am]

BILLING CODE 4312-52-P